NUCLEAR REGULATORY COMMISSION

[Docket No. 50-271-LR; ASLBP No. 06-849-03-LR]

Atomic Safety and Licensing Board; In the Matter of Entergy Nuclear Vermont Yankee, LLC, and Entergy Nuclear Operations, Inc. (Vermont Yankee Nuclear Power Station)

July 18, 2006.

Before Administrative Judges: Alex S. Karlin, Chairman, Dr. Richard E. Wardwell, Dr. Thomas S. Elleman.

Order (Setting Oral Argument Schedule and Inviting Written Limited Appearance Statements)

On June 20, 2006, the Board issued an order tentatively scheduling oral argument in this proceeding on Tuesday, August 1, 2006, and Wednesday, August 2, 2006. That order indicated that the time and location of the oral argument would be set forth in a subsequent order.

The Board hereby orders and confirms that it will hear oral argument from representatives of the petitioners, the applicant, and the NRC Staff,¹ commencing at 9 a.m. on Tuesday, August 1, 2006, in the multi-purpose room at Brattleboro Union High School, located at 131 Fairground Road in Brattleboro, Vermont. As necessary, oral argument will continue and recommence at 9 a.m. on Wednesday, August 2, 2006. The Board plans to adjourn each day no later than 6 p.m.

¹ The four petitioners are the Vermont Department of Public Service; the Massachusetts Attorney General; the New England Coalition (NEC); and the Town of Marlboro, Vermont. The applicant consists of two entities, Entergy Nuclear Vermont Yankee, L.L.C., and Entergy Nuclear Operations, Inc. The petitioners, applicant, and the NRC Staff are sometimes collectively referred to as the “participants.”

The oral argument will proceed as follows. First, we will hear a short opening statement, limited to ten minutes, from each participant. Second, the Board will hear argument on the individual contentions listed below.² Except where otherwise specified, for each listed contention the petitioner will have a total of twenty minutes, the applicant will have fifteen minutes, and the NRC Staff will have ten minutes. Five minutes of a petitioner's time will be reserved for rebuttal unless, at the outset of argument on that contention, the petitioner chooses an alternative allocation (up to a maximum of ten minutes rebuttal). All time periods include the time for responding to questions from the Board. For those contentions not listed below, no oral argument is necessary in order for the Board to reach its decision.

² The participants are encouraged to enter into stipulations that will serve to reduce or eliminate issues or contentions.

In formulating their arguments, participants should keep in mind that the Board will have read their pleadings and should focus solely on the critical points in controversy as those issues have emerged in the pleadings. The main purpose of the oral argument is to allow the Board to clarify its understanding of legal and factual points to assist it in deciding the issues presented by the pleadings. Oral arguments will be conducted in accordance with the following schedule:

1. Call to order, introductory remarks.

2. Opening statement by each participant.

3. State of Massachusetts Contention 1. For this contention the petitioner will have a total of thirty minutes, the applicant will have twenty minutes, and the NRC Staff will have twenty minutes.

4. State of Vermont Contention 2. For this contention the petitioner will have a total of twenty-five minutes, the applicant will have twenty minutes, and the NRC Staff will have ten minutes.

5. State of Vermont Contention 1.

6. State of Vermont Contention 3.

7. NEC Contention 1.

8. NEC Contention 2.

9. NEC Contention 3.

10. NEC Contention 4.

11. NEC Contention 5.

12. NEC Contention 6.³

³ The Board will not hear oral argument from any participant on the contention proffered by the Town of Marlboro. However the Town of Marlboro may want to use some of the ten minutes allocated for its opening statement to address the issue as to whether the town is an “interested * * * local governmental body” within the meaning of 10 CFR 2.315(c).

13. Adjourn.

Given that the purpose of this proceeding is to evaluate the admissibility of the petitioners' contentions and the legal issues presented in the participants' pleadings, oral argument will only be heard from the participants. Members of the public are welcome to attend and observe this proceeding. As this is an adjudicatory proceeding, the Board intends to conduct an orderly hearing and signs, banners, posters, and displays are prohibited in accordance with NRC policy. See Procedures for Providing Security Support for NRC Public Meetings/Hearings, 66 FR 31,719 (June 12, 2001). All interested persons should arrive early and allow sufficient time to pass through security screening.

Oral limited appearance statements in accord with 10 CFR 2.315(a) will not be heard on August 1 and 2, 2006. If contentions are admitted after the oral argument is complete, then oral limited appearance statements may be heard at a later date. In the interim, interested individuals may submit written limited appearance statements related to the issues in this proceeding. Such written statements may be submitted at any time and should be sent either by (1) mail to the Office of the Secretary, U.S. Nuclear Regulatory Commission, Washington, DC 20555-0001, Attention: Rulemakings and Adjudications Staff, with a copy to the Chairman of this Licensing Board at Mail Stop T-3F23, Atomic Safety and Licensing Board Panel, U.S. Nuclear Regulatory Commission, Washington, DC 20555-0001; (2) e-mail to the Office of the Secretary at hearingdocket@nrc.gov, with a copy to the Board Chairman (c/o Marcia Carpentier, mxc7@nrc.gov); or (3) fax to the Office of the Secretary at 301-415-1101 (facsimile verification number: 301-415-1966), with a copy to the Board Chairman at 301-415-5599 (facsimile verification number: 301-415-7550).

It is so ordered.

⁴ Copies of this order were sent this date by Internet e-mail transmission to counsel or a representative for (1) applicant Entergy Nuclear Vermont Yankee, L.L.C., and Entergy Nuclear Operations, Inc.; (2) petitioners Town of Marlboro, Vermont, the Massachusetts Attorney General, the Vermont Department of Public Service, and the New England Coalition; and (3) the NRC staff.

For the Atomic Safety and Licensing Board.⁴
Dated: July 18, 2006 in Rockville, Maryland.
Alex S. Karlin,
Administrative Judge.

[FR Doc. E6-11675 Filed 7-21-06; 8:45 am]

BILLING CODE 7590-01-P